SECURITIES AND EXCHANGE COMMISSION

Sunshine Act Meeting; Notice

Federal Register Citation of Previous Announcement: 75 FR 1425, January 11, 2010.

Status: Closed Meeting.

Place: 100 F Street, NE., Washington, DC.

Date and Time of Previously Announced Meeting: Thursday, January 14, 2010 at 2 p.m.

Change in the Meeting: Additional Item.

The following item has been added to the Thursday, January 14, 2010 Closed Meeting agenda: Post argument discussion.

Commissioner Walter, as duty officer, determined that Commission business required the above change.

At times, changes in Commission priorities require alterations in the scheduling of meeting items. For further information and to ascertain what, if any, matters have been added, deleted or postponed, please contact the Office of the Secretary at (202) 551-5400.

Dated: January 11, 2010.
Florence E. Harmon,
Deputy Secretary.

[FR Doc. 2010-649 Filed 1-12-10; 11:15 am]

BILLING CODE 8011-01-P